DEPARTMENT OF DEFENSE

Office of the Secretary

[Transmittal No. 19-72]

Arms Sales Notification

AGENCY: Defense Security Cooperation Agency, Department of Defense.

ACTION: Arms sales notice.

SUMMARY: The Department of Defense is publishing the unclassified text of an arms sales notification.

FOR FURTHER INFORMATION CONTACT: Karma Job at karma.d.job.civ@mail.mil or (703) 697-8976.

SUPPLEMENTARY INFORMATION: This 36(b)(1) arms sales notification is published to fulfill the requirements of section 155 of Public Law 104-164 dated July 21, 1996. The following is a copy of a letter to the Speaker of the House of Representatives, Transmittal 19-72 with attached Policy Justification and Sensitivity of Technology.

Dated: December 18, 2019.
Aaron T. Siegel,
Alternate OSD Federal Register Liaison Officer, Department of Defense.

BILLING CODE 5001-06-P

BILLING CODE 5001-06-C

Transmittal No. 19-72

Notice of Proposed Issuance of Letter of Offer Pursuant to Section 36(b)(1) of the Arms Export Control Act, as amended

(i) Prospective Purchaser: Republic of Croatia

(ii) Total Estimated Value:

Major Defense Equipment * | $ 60 million
Other | $ 55 million
TOTAL | $115 million

(iii) Description and Quantity or Quantities of Articles or Services under Consideration for Purchase: The Government of Croatia has requested to buy two (2) UH-60M Black Hawk Helicopters in standard U.S. Government configuration with designated unique equipment and Government Furnished Equipment (GFE).

Major Defense Equipment (MDE):

Two (2) UH-60M Black Hawk Helicopters with Designated Unique Equipment

Up to nine (9) T700-GE-701D Engines (4 installed and up to 5 spares)

Up to nine (9) H-764GU Embedded Global Positioning Systems with Inertial Navigation and Country Unique SAASM (4 installed and up to 5 spares)

Non-MDE: Also, included are two (2) AN/APX-123A Identification Friend or Foe (IFF) transponder, four (4) AN/ARC-201D RT-1478D, and four (4) AN/ARC-231 RT-1808A radios, aircraft warranty, air worthiness support, calibration services, spare and repair parts, support equipment, communication equipment, weapons, ammunition, night vision devices, publications and technical documentation, personnel training and training devices, site surveys, tool and test equipment, U.S. Government and contractor technical and logistics support services, and other related elements of logistical and program support.

(iv) Military Department: Army

(v) Prior Related Cases, if any: 7L-B-UGK, HR-B-UBQ

(vi) Sales Commission, Fee, etc., Paid, Offered, or Agreed to be Paid: None

(vii) Sensitivity of Technology Contained in the Defense Article or Defense Services Proposed to be Sold: See Attached Annex

(viii) Date Report Delivered to Congress: October 30, 2019

*As defined in Section 47(6) of the Arms Export Control Act.

POLICY JUSTIFICATION

Croatia—UH-60M Black Hawk Helicopters

The Government of Croatia has requested a possible sale of two (2) UH-60M Black Hawk Helicopters in standard USG configuration with designated unique equipment and Government Furnished Equipment (GFE), up to nine (9) each T700-GE-70 ID engines, and up to nine (9) each H-764GU/Embedded Global Positioning/Inertial Navigation (EGI). Also included are Communication Security equipment including an AN/APX-123A Identification Friend or Foe (IFF) transponder, AN/ARC-201D RT-1478D, and AN/ARC-231 RT-1808A radios, aircraft warranty, air worthiness support, calibration services, spare and repair parts, support equipment, communication equipment, weapons, ammunition, night vision devices, publications and technical documentation, personnel training and training devices, site surveys, tool and test equipment, U.S. Government and contractor technical and logistics support services, and other related elements of logistical and program support. The total estimated program cost is $115 million.

This proposed sale will support the foreign policy and national security of the United States by helping to improve the security of a NATO ally. The sale of these UH-60 helicopters to Croatia will significantly increase its capability to provide troop lift, border security, counterterrorism, medical evacuation, search and rescue, re-supply/external lift, and combat support. These UH-60 helicopters will allow for interoperability with U.S. and NATO forces in rapid response to a variety of missions and quick positioning of troops with minimal helicopter assets.

Croatia intends to use these defense articles and services to modernize its armed forces and expand its existing army architecture in its efforts to provide multi-mission support in the region as well as combat terrorist threats. Croatia will have no difficulty absorbing these helicopters into its armed forces.

The proposed sale of this equipment will not alter the basic military balance in the region.

The principal contractors will be Sikorsky Aircraft Company, Stratford, Connecticut; and General Electric Aircraft Company (GEAC), Lynn, Massachusetts. There are no known offset agreements in connection with this potential sale.

Implementation of this proposed sale may require the assignment of an additional three U.S. Government and five contractor representatives in country full-time to support the delivery and training for approximately two-five years.

There will be no adverse impact on U.S. defense readiness as a result of this proposed sale.

Transmittal No. 19-72

Notice of Proposed Issuance of Letter of Offer Pursuant to Section 36(b)(1) of the Arms Export Control Act

Annex

Item No. vii

(vii) Sensitivity of Technology:

1. The UH-60M aircraft is a medium lift four bladed aircraft which includes two (2) T-701D Engines. The aircraft has four (4) Multifunction Displays (MFD), which provides aircraft system, flight, mission, and communication management systems. The instrumentation panel includes four (4) Multifunction Displays (MFDs), two (2) Pilot and Co-Pilot Flight Director Panels, and two (2) Data Concentrator Units (DCUs). The Navigation System will have Embedded GPS/INS (EGIs), and two (2) Advanced Flight Control Computer Systems (AFCC), which provide 4 axis aircraft control.

2. The H764-G EGI provides GPS and INS capabilities to the aircraft. The EGI will include Selective Availability anti-Spoofing Module (SAASM) security modules to be used for secure GPS PPS if required. The Embedded GPS/INS within the SAASM contains sensitive technology.

3. The AN/APX-123A, Identification Friend or Foe (IFF) Transponder, is a space diversity transponder and is installed on various military platforms. When installed in conjunction with platform antennas and the Remote Control Unit (or other appropriate control unit), the transponder provides identification, altitude and surveillance reporting in response to interrogations from airborne, ground-based and/or surface interrogators. This item contains sensitive technology.

4. The AN/ARC-201D, Single Channel Ground to Air Radio System (SINCGARS), is a tactical airborne radio subsystem that provides secure, anti-jam voice and data communication. The integration of COMSEC and the Data Rate Adapter (DRA) combines three Line Replaceable Units into one and reduces overall weight of the aircraft. Performance capabilities, ECM/ECCM specification and Engineering Change Orders (ECOs) are classified SECRET.

5. The AN/ARC-231, Very High Frequency/Ultra High Frequency (VHF/UHF), Line-of-Sight (LOS) Radio with frequency agile modes, Electronic counter-countermeasures (ECCM), UHF Satellite Communications (SATCOM), Demand Assigned Multiple Access (DAMA), Integrated Waveform (IW), Air Traffic Control (ATC) channel spacing is operator selectable in 5, 8.33, 12 .5, and 25kHz steps. The antennas associated with this radio contain sensitive technology.

6. If a technologically advanced adversary were to obtain knowledge of the specific hardware and software elements, the information could be used to develop countermeasures or equivalent systems which might reduce weapon system effectiveness or be used in the development of a system with similar or advanced capabilities.

7. This sale is necessary in furtherance of the U.S. foreign policy and national security objectives outlined in the enclosed Policy Justification. A determination has been made that Croatia can provide the same degree of protection for the sensitive technology being released as the U.S. Government.

8. All defense articles and services listed in this transmittal have been authorized for release and export to Croatia.

[FR Doc. 2019-27648 Filed 12-20-19; 8:45 am]

BILLING CODE 5001-06-P